DEPARTMENT OF STATE

[Public Notice 7691]

Culturally Significant Objects Imported for Exhibition Determinations: “The Steins Collect: Matisse, Picasso, and the Parisian Avant-Garde” Exhibition

ACTION: Notice, correction.

SUMMARY: On April 1, 2011, notice was published on page 18292 of the Federal Register (volume 76, number 63) of the determinations made by the Department of State pertaining to the exhibition “The Steins Collect: Matisse, Picasso, and the Parisian Avant-Garde.” The referenced notice is corrected as to the number of objects on temporary display at The Metropolitan Museum of Art, which is nine rather than six. Therefore, I determine that the exhibition or display of all of the exhibit objects at the San Francisco Museum of Modern Art, San Francisco, CA, from on or about May 21, 2011, until on or about September 6, 2011, and the temporary display of nine of the objects at The Metropolitan Museum of Art, New York, NY, from on or about February 21, 2012, until on or about June 3, 2012, is in the national interest. Also, the temporary display of the objects at possible additional exhibitions or venues yet to be determined is in the national interest. I have ordered that Public Notice of the correction of the number of the objects to be on temporary display at The Metropolitan Museum of Art be published in the Federal Register.

FOR FURTHER INFORMATION CONTACT: For further information, including a list of the exhibit objects, contact Julie Simpson, Attorney-Adviser, Office of the Legal Adviser, U.S. Department of State (telephone: (202) 632-6467). The mailing address is U.S. Department of State, SA-5, L/PD, Fifth Floor (Suite 5H03), Washington, DC 20522-0505.

Dated: November 9, 2011.
Ann Stock,
Assistant Secretary, Bureau of Educational and Cultural Affairs, Department of State.

[FR Doc. 2011-29862 Filed 11-17-11; 8:45 am]

BILLING CODE 4710-05-P